DEPARTMENT OF ENERGY

Federal Energy Regulatory Commission

[Project No. 9185-009]

Flambeau Hydro, LLC; Notice Soliciting Scoping Comments

September 26, 2005.

Take notice that the following hydroelectric application has been filed with the Commission and is available for public inspection.

a. Type of Application: Subsequent License.

b. Project No.: P-9185-009.

c. Date filed: April 1, 2005.

d. Applicant: Flambeau Hydro, LLC.

e. Name of Project: Clam River Hydroelectric Project.

f. Location: On the Clam River in Burnett County, near Danbury, Wisconsin. The project does not occupy Federal lands.

g. Filed Pursuant to: Federal Power Act 16 U.S.C. 791 (a)-825(r).

h. Applicant Contact: Scott Klabunde, North American Hydro, Inc., P.O. Box 167, Neshkoro, WI 54960; 920-293-4628 ext. 14.

i. FERC Contact: Patrick Murphy, (202) 502-8755 or patrick.murphy@ferc.gov.

j. Deadline for filing scoping comments: October 31, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link.

k. This application is not ready for environmental analysis at this time.

l. The existing Clam River Project consists of: (1) A 46-foot-high buttress type concrete dam concrete with a 54-foot-wide spillway with four sections, three sections equipped with 8-inch-high stoplogs, and one section equipped with a 4-foot-high slide gate; (2) an 898-foot-long and 223-foot-long earthen dikes connecting the left side and the right side of the concrete dam, respectively; (3) a 360-acre reservoir with a net storage capacity of 3,575 acre-feet with a water surface elevation of 898.9 feet msl; (4) two powerhouses integral to the dam containing three turbine generating units with a total installed capacity of 1,200 kW; (5) a 100-foot-long, 2.4-kilovolt transmission line; and (6) appurtenant facilities. The applicant estimates that the total average annual generation would be 4,903 megawatt hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribernow.htm to be notified via e-mail of new filings and issuances related to this or other pending projects. For assistance, contact FERC Online Support.

o. Scoping Process: The Commission staff intends to prepare an Environmental Assessment (EA) for the Clam River Hydroelectric Project in accordance with the National Environmental Policy Act. The EA will consider both site-specific and cumulative environmental impacts and reasonable alternatives to the proposed action.

Commission staff does not propose to conduct any on-site scoping meetings at this time. Instead, we will solicit comments, recommendations, information, and alternatives in the Scoping Document (SD).

Copies of the SD outlining the subject areas to be addressed in the EA were distributed to the parties on the Commission's mailing list. Copies of the SD may be viewed on the Web at http://www.ferc.gov using the “eLibrary” link. Enter the docket number excluding the last three digits in the docket number field to access the document. For assistance, call 1-866-208-3676 or for TTY, (202) 502-8659.

Magalie R. Salas,
Secretary.

[FR Doc. E5-5390 Filed 9-30-05; 8:45 am]

BILLING CODE 6717-01-P